DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). The U.S. Fish and Wildlife Service (“we”) solicits review and comment from local, State, and Federal agencies, and the public on the following permit requests.

DATES: Comments on these permit applications must be received on or before October 29, 2004.

ADDRESSES: Written data or comments should be submitted to the U.S. Fish and Wildlife Service, Chief, Endangered Species, Ecological Services, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 30 days of the date of publication of this notice to the address above (telephone: 503-231-2063). Please refer to the respective permit number for each application when requesting copies of documents.

SUPPLEMENTARY INFORMATION:

Permit No.: TE-022514

Applicant: Patrick Tennant, Costa Mesa, California.

The permittee requests an amendment to take (harass by survey and locate and monitor nests) the southwestern willow flycatcher (Empidonax traillii extimus), and to take (locate and monitor nests) the least Bell's vireo (Vireo pusillus bellii) in conjunction with surveys in Orange, Riverside, San Diego, Los Angeles, Ventura, Imperial, and San Bernardino Counties, California, for the purpose of enhancing their survival.

Permit No.: TE-091987

Applicant: Zachary Principe, Murrieta, California.

The applicant requests a permit to take (capture and collect and sacrifice) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout southern California for the purpose of enhancing their survival.

Permit No.: TE-092163

Applicant: Shelby Howard, Costa Mesa, California.

The applicant requests a permit to take (harass by survey) the southwestern willow flycatcher (Empidonax traillii extimus) in conjunction with surveys in San Diego and Los Angeles Counties, California, for the purpose of enhancing its survival.

Permit No.: TE-092162

Applicant: Andrew Borcher, Santee, California.

The applicant requests a permit to take (survey by pursuit) the Quino checkerspot butterfly (Euphydryas editha quino) in conjunction with surveys throughout the range of the species in California for the purpose of enhancing its survival.

Permit No.: TE-092176

Applicant: Susan Ingram, Camarillo, California.

The applicant requests a permit to take (survey by pursuit) the southwestern willow flycatcher (Empidonax traillii extimus) in conjunction with surveys in Los Angeles, San Bernardino, Inyo, Kern, and Santa Barbara Counties, California, for the purpose of enhancing its survival.

Permit No.: TE-092476

Applicant: Scott Quinnell, Yucaipa, California.

The applicant requests a permit to take (survey by pursuit) the Quino checkerspot butterfly (Euphydryas editha quino) in conjunction with surveys throughout the range of the species in California for the purpose of enhancing its survival.

Permit No.: TE-091462

Applicant: Karen Drewe, Irvine, California.

The applicant requests a permit to take (harass by survey) the Quino checkerspot butterfly (Euphydryas editha quino) in conjunction with surveys throughout the range of the species in California for the purpose of enhancing its survival.

Permit No.: TE-090990

Applicant: The Catalina Island Conservancy, Avalon, California.

The applicant requests a permit to take (harass by survey, capture, handle, measure, sex, insert passive integrated transponder tags, radio-collar, vaccinate, administer veterinary medical treatments, captive propagate, collect blood and fecal samples, transport, and release) the Santa Catalina Island fox (Urocyon littoralis catalinae; fox) in conjunction with scientific research on the fox and feral cats, and feral goat and pig removal on Santa Catalina Island, California, for the purpose of enhancing its survival.

Permit No.: TE-093151

Applicant: Richard Rivas, Fair Oaks, California.

The applicant requests a permit to take (capture and collect and sacrifice) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout California for the purpose of enhancing their survival.

Permit No.: TE-092469

Applicant: Ingrid Chlup, Santa Ana, California.

The applicant requests a permit to take (capture and collect and sacrifice) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys in southern California for the purpose of enhancing their survival.

Permit No.: TE-093150

Applicant: Melissa Olson, Murrieta, California.

The applicant requests a permit to take (survey by pursuit) the Quino checkerspot butterfly (Euphydryas editha quino) in conjunction with surveys throughout the range of the species in California for the purpose of enhancing its survival.

Permit No.: TE-093149

Applicant: Dean Blinn, Flagstaff, Arizona.

The applicant requests a permit to take (collect) the Amargosa pupfish (Cyprinodon nevadensis) in conjunction with research in Nye County, Nevada, for the purpose of enhancing its survival.

Permit No.: TE-080774

Applicant: U.S. Mendocino National Forest, Arcata, California.

The permittee requests an amendment to take (collect tissue, use video cameras in burrows, and excavate burrows to locate dead beavers) the Point Arena Mountain Beaver (Aplodontia rufa nigra) in conjunction with scientific research in Mendocino County, California, for the purpose of enhancing its survival.

We solicit public review and comment on each of these recovery permit applications.

Dated: September 15, 2004.
John Engbring,
Acting Manager, California/Nevada Operations Office, U.S. Fish and Wildlife Service.

[FR Doc. 04-21823 Filed 9-28-04; 8:45 am]

BILLING CODE 4310-55-P